FEDERAL COMMUNICATIONS COMMISSION

47 CFR Part 73

[DA No. 01-2145; MM Docket No. 01-134; RM-10137]

Television Broadcasting Services; Elk City, OK and Borger, TX

AGENCY: Federal Communications Commission.

ACTION: Final rule.

SUMMARY: This document reallots Channel 31 from Elk City, Oklahoma to Borger, Texas, and modifies the authorization for Station KBCA to specify operation on Channel 31 at Borger in response to a petition filed by TV 31, L.L.C. See 66 FR 35767, July 9, 2001. The coordinates for Channel 31 at Borger are 35-41-56 and 100-53-34.

DATES: Effective October 29, 2001.

FOR FURTHER INFORMATION CONTACT: Kathleen Scheuerle, Mass Media Bureau, (202) 418-2180.

SUPPLEMENTARY INFORMATION: This is a summary of the Commission's Report and Order, MM Docket No. 01-134, adopted September 5, 2001, and released September 14, 2001. The full text of this Commission decision is available for inspection and copying during regular business hours at the FCC Reference Information Center, Portals II, 445 12th Street, SW., Room CY-A257, Washington, DC 20554. This document may also be purchased from the Commission's duplicating contractor, Qualex International, Portals II, 445 12th Street, SW., room CY-B402, Washington, DC 20554, telephone 202-863-2893, facsimile 202-863-2898, or via e-mail qualexint@aol.com.

List of Subjects in 47 CFR Part 73

Television broadcasting.

Part 73 of title 47 of the Code of Federal Regulations is amended as follows:

PART 73—RADIO BROADCAST SERVICES

1. The authority citation for Part 73 continues to read as follows:

Authority: 47 U.S.C. 154, 303, 334 and 336.

§ 73.606 [Amended]

2. Section 73.606(b), the Table of TV Allotments under Oklahoma, is amended by removing Channel 31 at Elk City.

3. Section 73.606(b), the Table of TV Allotments under Texas, is amended by adding Borger, Channel 31.

Federal Communications Commission.
John A. Karousos,
Chief, Allocations Branch, Policy and Rules Division, Mass Media Bureau.

[FR Doc. 01-24138 Filed 9-27-01; 8:45 am]

BILLING CODE 6712-01-P